DEPARTMENT OF HEALTH AND HUMAN SERVICES

Centers for Disease Control and Prevention

Strengthen and Expand the National Capacity for TB/HIV National Program through Support to the Central Tuberculosis (TB) Unit of the Ministry of Health of the Republic of Haiti for Improved TB/HIV Integration

Announcement Type: New Competitive Cooperative Agreement.

Funding Opportunity Number: AA170.

Catalog of Federal Domestic Assistance Number: 93.067.

Key Dates:

Application Deadline: September 12, 2005.

I. Funding Opportunity Description

Authority: This program is authorized under sections 301(a) and 307 of the Public Health Service Act [42 U.S.C. 241 and 242l], as amended, and under Public Law 108-25 (United States Leadership Against HIV/AIDS, Tuberculosis and Malaria Act of 2003) [U.S.C. 7601].

Purpose: President Bush's Emergency Plan for AIDS Relief (The Emergency Plan) has called for immediate action to turn the tide of HIV/AIDS in Africa and the Caribbean. The Emergency Plan hopes to prevent at least seven million new cases of HIV infection; provide treatment to two million HIV-infected people; and provide care to ten million people infected and affected by HIV/AIDS, including orphans and vulnerable children, world wide by 2010. An essential element of preventing new cases of HIV is to ensure that high-risk groups have adequate access to screening, treatment, and care facilities. Haiti's HIV prevalence rate in adults is reported to be 5.6 percent, according to the Joint United Nations Programme on HIV/AIDS (UNAIDS) 2004 Annual Report. Access to prevention and treatment is limited to the Haitian population because of the underdeveloped public health infrastructure and lack of clinical capacity. To improve this capacity, this cooperative agreement will provide much needed funding and resources under the President's Emergency Plan.

Over the same time period, as part of a collective national response, the Emergency Plan goals specific to Haiti are to treat at least 25,000 HIV-infected individuals and care for 125,000 HIV-affected individuals, including orphans.

Measurable outcomes of the program will be in alignment with one (or more) of the following performance goal(s) for the National Center for HIV, STD and TB Prevention (NCHSTP) of the Centers for Disease Control (CDC) within HHS: Increase the proportion of HIV-infected people who are linked to appropriate prevention, care and treatment; strengthen the capacity nationwide to monitor the epidemic; develop and implement effective HIV prevention interventions; and evaluate prevention programs.

This announcement is only for non-research activities supported by HHS. If applicants propose research, we will not review the application. For the definition of “research,” please see the HHS/CDC Web site at the following Internet address: http://www.cdc.gov/od/ads/opspoll1.htm.

Activities:

Awardee activities for this program are as follows:

1. Provide technical assistance to the National TB Program of the Haitian Ministry of Health (MOH) to assist in TB/HIV integrated services and strengthen the diagnosis and treatment of TB among HIV positive patients.

2. Reinforce the capacity of the Haitian MOH and the Departmental Directorates to perform supervision and quality assurance/quality control of TB/HIV care at the departmental and local levels.

3. Conduct a needs assessment of stand-alone TB clinics in Haiti, and their capacity for detecting and managing dual-infected patients.

4. Increase capacity for training TB providers in confidential HIV counseling and testing (CT), through training-of-trainers in local languages, and procurement of training materials in a transparent process.

5. Integrate surveillance of HIV into the existing electronic TB surveillance system, and create linkages with the HIV surveillance system.

6. Assist the Haitian MOH in the revision of norms and standards for the management of HIV-infected TB patients, and develop guidelines, training materials, and algorithms in local languages based on the revised norms and standards.

In a cooperative agreement, HHS staff is substantially involved in the program activities, above and beyond routine grant monitoring.

HHS Activities for this program are as follows:

1. Provide technical assistance in the areas of TB/HIV surveillance, monitoring and evaluation, and developing guidelines, norms, and training materials, facilitated by the HHS Atlanta Country Support Team and the HHS Haiti Technical Officers for Care and Treatment, Surveillance, and TB/HIV.

2. Support for an electronic medical record (EMR) database system, and surveillance database system, for TB/HIV case notification, in compliance with strategic information guidance established by the Office of the U.S. Global AIDS Coordinator.

3. Support installation of hardware necessary for the use of database systems and provide technical assistance on database use and maintenance needs.

4. Support the annual technical review of the national AIDS/TB/STI program in Haiti.

5. Provide equipment and commodities for new partner clinics, purchased in a transparent and competitive process.

6. Support the annual technical review of service-delivery programs of new clinics.

7. Assist in organizing partner network meetings.

Additional HHS activities include the following:

1. Organize an orientation meeting with the grantee to brief them on applicable U.S. Government, HHS, and Emergency Plan expectations, regulations and key management requirements, as well as report formats and contents. The orientation could include meetings with staff from HHS agencies and the Office of the U.S. Global AIDS Coordinator.

2. Review and approve the process used by the grantee to select key personnel and/or post-award subcontractors and/or subgrantees to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet on a monthly basis with grantee to assess monthly expenditures in relation to approved work plan and modify plans as necessary.

6. Meet on a quarterly basis with grantee to assess quarterly technical and financial progress reports and modify plans as necessary.

7. Meet on an annual basis with grantee to review annual progress report for each U.S. Government Fiscal Year, and to review annual work plans and budgets for subsequent year, as part of the Emergency Plan for AIDS Relief review and approval process for Country Operational Plans, managed by the Office of the U.S. Global AIDS Coordinator.

8. Provide in-country administrative support to help grantee meet U.S. Government financial and reporting requirements.

Please note: Either HHS staff or staff from organizations that have successfully competed for funding under a separate HHS contract, cooperative agreement or grant will provide technical assistance and training.

II. Award Information

Type of Award: Cooperative Agreement. HHS involvement in this program is listed in the Activities Section above.

Fiscal Year Funds: 2005.

Approximate Total Funding: $1,000,000 (This amount is an estimate for the entire five-year project period, and is subject to availability of funds.)

Approximate Number of Awards: One.

Approximate Average Award: $200,000 (This amount is for the first 12-month budget period, and includes direct costs.).

Floor of Award Range: $200,000 (This amount is for the first 12-month budget period, and includes direct costs.)

Ceiling of Award Range: $200,000 (This amount is for the first 12-month budget period, and includes direct costs.)

Anticipated Award Date: September 15, 2005.

Budget Period Length: 12 months.

Project Period Length: Five years.

Throughout the project period, HHS’ commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible Applicants

To meet the eligibility criteria for this program announcement, applicants must be indigenous to Haiti; must have documented experience in TB/HIV; must currently be providing extensive technical assistance to the MOH TB/HIV program; must have extensive experience in collecting samples and implementing Directly Observed Therapy Strategy (DOTS) in community settings in local languages; and must already be integrated into the national TB/HIV program.

This cooperative agreement seeks to fund activities that will integrate TB and HIV diagnosis and treatment. This program depends upon the ability of the grantee to work with these two separate national programs and strive to integrate them. At the end of the first year of the project period, the grantee must be detecting HIV positive individuals and referring them for treatment at TB sites, and detecting individuals with active TB and referring them for treatment by the national TB program. The integration of these two programs will result in identifying more HIV and TB patients. Both target groups are at high risk for transmission, and heretofore the national prevention effort in Haiti is not addressing them in a consistent manner.

To meet the goals of the Emergency Plan within the time allotted, any program applicant must be able to demonstrate it already has developed a working relationship and has experience with both the Haitian national TB program and the Haitian national program to control HIV/AIDS. These are two separate departments in the MOH, and will be a challenge to integrate because of a lack of support systems to treat TB/HIV in an integrated manner. Therefore, an organization must demonstrate it has at least three to five years of experience in working with both the Haitian national TB and HIV/AIDS control programs.

Eligible applicants should also demonstrate capacity to coordinate their activities with HHS and other members of the United States Government.

III.2. Cost Sharing or Matching Funds

Matching funds are not required for this program. Although matching funds are not required, preference will go to organizations that can leverage additional funds to contribute to program goals.

III.3. Other

If you request a funding amount greater than the ceiling of the award range, HHS will consider your application non-responsive, and it will not enter into the review process. We will notify you that your application did not meet the submission requirements.

Special Requirements: If your application is incomplete or non-responsive to the special requirements listed in this section, it will not enter into the review process. We will notify that your application did not meet submission requirements.

• HHS/CDC will consider late applications non-responsive. See section “IV.3. Submission Dates and Times” for more information on deadlines.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission: HHS strongly encourages you to submit your application electronically by using the forms and instructions posted for this announcement on www.grants.gov, the official Federal agency wide E-grant Web site. Only applicants who apply on-line are permitted to forego the paper copy submission of all application forms.

Paper Submission: Application forms and instructions are available on the HHS/CDC Web site, at the following Internet address: http://www.cdc.gov/od/pgo/forminfo.htm.

If you do not have access to the Internet, or if you have difficulty accessing the forms on-line, you may contact the HHS/CDC Procurement and Grants Office Technical Information Management Section (PGO-TIM) at: 770-488-2700. We can mail application forms to you.

IV.2. Content and Form of Submission

Application: You must submit a project narrative with your application forms. You must submit the narrative in the following format:

• Maximum number of pages: 30. If your narrative exceeds the page limit, we will only review the first pages within the page limit.

• Font size: 12 point unreduced

• Paper size: 8.5 by 11 inches

• Page margin size: One inch

• Double-spaced

• Number all pages of the application sequentially from page one (Application Face Page) to the end of the application, including charts, figures, tables, and appendices.

• Printed only on one side of page.

• Held together only by rubber bands or metal clips; not bound in any other way.

• Submitted in English

Your narrative should address activities to be conducted over the entire project period, and must include the following items in the order listed:

• Executive Summary

Provide a clear and concise summary of the proposed goals, major objectives and activities required for achievement of program goals and amount of funding requested for budget year one of this cooperative agreement.

• Need: Description of need for strengthened TB services for HIV-infected TB patients in Haiti. Include data on TB incidence rates among HIV positive persons, TB incidence rates in the general population, and the status of existing TB and TB/HIV control activities.

• Capacity: Current capability/capacity of organization to perform required elements of this program announcement, and to support the strengthening and expansion of the national TB diagnostic and treatment services for HIV positive patients.

• Expansion: Describe detailed plans for use of funds to expand and improve existing TB diagnosis and treatment services for HIV positive patients.

• Personnel: Plans for recruitment of staff and personnel to carry out the proposed activities.

• Training: Plans for training of current staff in TB screening and treatment among HIV positive patients, and HIV CT for TB staff.

• Laboratory Capacity: Provide basic laboratory services in support of TB diagnosis and treatment for HIV positive patients.

• Commodities: Procure commodities necessary for screening and treatment of TB disease.

• Outreach: Provide educational services to address awareness, prevention, and treatment of TB in communities affected by HIV/AIDS.

• Monitoring and Evaluation: Implement monitoring and evaluation strategies to assess programmatic effectiveness, as well as provision of the required targets for Emergency Plan reporting, including:

1. Number of service outlets providing clinical prophylaxis and/or treatment for TB for HIV-infected individuals (diagnosed or presumed).

2. Number of HIV-infected individuals (diagnosed or presumed) who receive clinical prophylaxis and/or treatment for TB.

3. Number of individuals trained to provide clinical prophylaxis and/or treatment for TB to HIV-infected individuals (diagnosed or presumed).

4. Number of people trained in the lab for TB/HIV diagnosis.

5. Number of TB/HIV service outlets.

6. Number of TB patients tested for HIV.

• Budget: A budget is required for the first year only, and the budget justification will not be counted in the stated page limit.

Additional information may be included in the application appendices. The appendices will not count toward the narrative page limit. This additional information includes:

• Budget and Budget Justification.

• Curriculum Vitas or Resumes.

• Organizational Charts.

• Letters of Support.

• Job descriptions of proposed key positions to be created for the activity.

• Quality-Assurance, Monitoring-and-Evaluation, and Strategic-Information Forms.

• Applicant's Corporate Capability Statement.

• Evidence of Legal Organizational Structure.

You must have a Dun and Bradstreet Data Universal Numbering System (DUNS) number to apply for a grant or cooperative agreement from the Federal government. The DUNS number is a nine-digit identification number, which uniquely identifies business entities. Obtaining a DUNS number is easy, and there is no charge. To obtain a DUNS number, access www.dunandbradstreet.com or call 1-866-705-5711. For more information, see the HHS/CDC web site at: http://www.cdc.gov/od/pgo/funding/grantmain.pdf. If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 12, 2005.

Explanation of Deadlines: Applications must be received in the HHS/CDC Procurement and Grants Office by 4 p.m. Eastern Time on the deadline date.

You may submit your application electronically at www.grants.gov. We consider applications completed on-line through Grants.gov as formally submitted when the applicant organization's Authorizing Official electronically submits the application to www.grants.gov. Electronic applications will be considered as having met the deadline if the applicant organization's Authorizing Official has submitted the application electronically to Grants.gov on or before the deadline date and time.

If you submit your application electronically through Grants.gov [http://www.grants.gov], the application will be electronically time/date stamped, which will serve as receipt of submission. You will receive an e-mail notice of receipt when HHS/CDC receives the application.

If you submit your application by the United States Postal Service or commercial delivery service, you must ensure the carrier will be able to guarantee delivery by the closing date and time. If HHS/CDC receives your submission after closing because: (1) Carrier error, when the carrier accepted the package with a guarantee for delivery by the closing date and time; or (2) significant weather delays or natural disasters, you will have the opportunity to submit documentation of the carrier's guarantee. If the documentation verifies a carrier problem, HHS/CDC will consider the submission as having been received by the deadline.

If a hard copy application is submitted, HHS/CDC will not notify you upon receipt of your submission. If you have a question about the receipt of your application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will discard it. You will be notified that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Funds may be spent for reasonable program purposes, including personnel, travel, supplies, and services. Equipment may be purchased if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut and the World Health Organization, Indirect Costs will not be paid (either directly or through sub-award) to organizations located outside the territorial limits of the United States or to international organizations, regardless of their location.

• The applicant may contract with other organizations under this program; however, the applicant must perform a substantial portion of the activities (including program management and operations, and delivery of prevention services for which funds are required).

• You must obtain annual audit of these HHS/CDC funds (program-specific audit) by a U.S.-based audit firm with international branches and current licensure/authority in-country, and in accordance with International Accounting Standards or equivalent standard(s) approved in writing by HHS/CDC.

• A fiscal Recipient Capability Assessment may be required, prior to or post award, in order to review the applicant's business management and fiscal capabilities regarding the handling of U.S. Federal funds.

• Funds received from this announcement will not be used for the purchase of antiretroviral drugs for treatment of established HIV infection (with the exception of nevirapine in Prevention of Mother-to-Child Transmission (PMTCT) cases and with prior written approval), occupational exposures, and non-occupational exposures and will not be used for the purchase of machines and reagents to conduct the necessary laboratory monitoring for patient care.

• No funds appropriated under this act shall be used to carry out any program of distributing sterile needles or syringes for the hypodermic injection of any illegal drug.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all sub-agreements under this award. These provisions must be express terms and conditions of the sub-agreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.”’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV.6. Other Submission Requirements

Application Submission Address

Electronic Submission: HHS/CDC strongly encourages applicants to submit electronically at www.Grants.gov. You will be able to download a copy of the application package from www.Grants.gov, complete it off-line, and then upload and submit the application via the Grants.gov Web site. We will not accept e-mail submissions. If you are having technical difficulties in Grants.gov, you may reach them by e-mail at support@grants.gov or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of the application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommend that you submit your grant application by using Microsoft Office products (e.g., Microsoft Word, Microsoft Excel, etc.). If you do not have access to Microsoft Office products, a PDF file may be submitted. You may find directions for creating PDF files on the Grants.gov Web site. Use of file formats other than Microsoft Office or PDF could make your file unreadable for our staff; or

Submit the original and two hard copies of your application by mail or express delivery service to: Technical Information Management—AA170, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. You must submit these measures of effectiveness with your application, and they will be an element of evaluation.

We will evaluate your application against the following criteria:

1. Monitoring Evaluation and Reporting (25 Points)

Implement a system for reviewing and adjusting program activities based on monitoring information. Applicants must develop indicators for each program milestone and incorporate them into the financial and programmatic reports. All indicators must come from the President's Emergency Plan for AIDS Relief Indicator Guide. Applicants must be able to generate financial and program reports to show disbursement of funds, and progress towards achieving program objectives.

2. Plan (25 Points)

Does the applicant describe strategies that are pertinent and match those identified in the five-year strategy of the President's Emergency Plan and activities that are evidence-based, realistic, achievable, measurable and culturally appropriate in Haiti to achieve the goals of the Emergency Plan? Is the plan adequate to carry out the proposed objectives? How complete and comprehensive is the plan for the entire project period? Does the plan include quantitative process and outcome measures? Does the applicant demonstrate the ability to deliver the proposed interventions in a culturally appropriate manner and in local languages?

3. Need (20 Points)

Does the applicant demonstrate an understanding of the national cultural and political context and the technical and programmatic areas covered by the project? Does the applicant display knowledge of the five-year strategy and goals of the President's Emergency Plan, such that it can build on these to develop a comprehensive, collaborative project and meet the goals of the Emergency Plan? To what extent does the applicant justify the need for this program within the target community?

4. Methods (15 Points)

Are the proposed methods feasible? To what extent will they accomplish the program goals? Does the application include an overall design strategy, including measurable time lines, clear monitoring and evaluation procedures, and specific activities for meeting the proposed objectives? Does the applicant describe a plan to progressively build the capacity of local organizations and of target beneficiaries and communities to respond to the epidemic?

5. Personnel (15 Points)

Do the staff members have appropriate experience? Are the staff roles clearly defined? As described, will the staff be sufficient to accomplish the program goals and do they have the ability to perform activities in local languages?

6. Budget and Justification (Reviewed But Not Scored)

Is the itemized budget for conducting the project, along with justification, reasonable, and consistent with stated objectives and planned program activities?

Guidance for completing your budget can be found on the USG Web site, at the following address: http://www.cdc.gov/od/pgo/funding/budgetguide.htm.

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

It is possible for one organization to apply as lead grantee with a plan that includes partnering with other organizations, preferably local. Although matching funds are not required, preference will go to organizations that can leverage additional funds to contribute to program goals.

In addition, the following factors may affect the funding decision:

• Maintaining geographic diversity.

• Preference to organizations in certain geographic areas.

HHS/CDC will provide justification for any decision to fund out of rank order.

V.3. Anticipated Announcement and Award Dates

September 15, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-6 Patient Care

• AR-8 Public Health Reporting Requirements

• AR-12 Lobbying Restrictions

• AR-14 Accounting System Requirements

• AR-25 Release and Sharing of Data

Applicants can find additional information on these requirements on the HHS/CDC Web site at the following Internet address: http://www.cdc.gov/od/pgo/funding/ARs.htm.

You need to include an additional Certifications form from the PHS5161-1 application in the Grants.gov electronic submission only. Please refer to http://www.cdc.gov/od/pgo/funding/PHS5161-1-Certificates.pdf. Once you have filled out the form, it should be attached to the Grants.gov submission as Other Attachment Forms.

VI.3. Reporting Requirements

You must provide HHS/CDC with an original, plus two hard copies of the following reports:

1. Interim progress report, due no less than 90 days before the end of the budget period. The progress report will serve as your non-competing continuation application, and must contain the following elements:

a. Current Budget Period Activities and Objectives.

b. Current Budget Period Financial Progress.

c. New Budget Period Program Proposed Activities and Objectives.

d. Budget and budget narrative with justification.

e. Measures of Effectiveness, including progress against the numerical goals of the President's Emergency Plan for Haiti.

f. Additional Information.

2. Annual Reports are due within each budget period. The report should detail progress toward achieving program milestones and projected next year activities. Indicators must be developed for each program milestone and incorporated into the annual financial and programmatic reports. All indicators need to be drawn from The Emergency Plan.

3. Financial status report, no more than 90 days after the end of the budget period. The financial report must show obligations, disbursements and funds remaining by program activity. Indicators must be developed for each program milestone and incorporated into the periodic financial and programmatic reports. All indicators need to be drawn from The Emergency Plan Indicator Guide.

4. Final financial and performance reports, no more than 90 days after the end of the project period.

Recipients must mail these reports to the Grants Management or Contract Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341, Telephone: 770-488-2700.

For program technical assistance, contact: Kathy Grooms, Country Program Officer, HHS/CDC, NCHSTP, Global AIDS Program, 6600 Clifton Road, MS E-04, Atlanta, GA 30333, Telephone: 404-639-8394, E-mail: Kgrooms@cdc.gov.

For financial, grants management, or budget assistance, contact: Vivian Walker, Grants Management Specialist, CDC Procurement and Grants Office, U.S. Department of Health and Human Services, 2920 Brandywine Road, Atlanta, GA 30341, Telephone: 770-488-2724, E-mail: VEW4@CDC.GOV.

VIII. Other Information

Applicants can find this and other HHS/CDC funding opportunity announcements on the HHS/CDC Web site, Internet address: http://www.cdc.gov (click on “Funding,” then “Grants and Cooperative Agreements”) and on the Web site of the HHS Office of Global Health Affairs, Internet address: http://www.globalhealth.gov.

Dated: August 12, 2005.
William P. Nichols,
Director, Procurement and Grants Office, Centers for Disease Control and Prevention, U.S. Department of Health and Human Services.

[FR Doc. 05-16430 Filed 8-18-05; 8:45 am]

BILLING CODE 4163-18-P